ENVIRONMENTAL PROTECTION AGENCY

[Petition IV-2011-1; FRL-9734-2]

Clean Air Act Operating Permit Program; Petition for Objection to State Operating Permit for Tennessee Valley Authority's Shawnee Fossil Plant; McCracken County, KY

AGENCY: Environmental Protection Agency (EPA).

ACTION: Notice of final order on petition to object to a state operating permit.

SUMMARY: Pursuant to Clean Air Act (CAA) Section 505(b)(2), the EPA Administrator signed an Order, dated August 31, 2012, denying a petition to object to a CAA title V operating permit issued by the Kentucky Division for Air Quality (KDAQ) to Tennessee Valley Authority for its Shawnee Fossil Plant (SFP) facility located in West Paducah, Kentucky. This Order constitutes a final action on the petition dated February 28, 2011, and submitted by the Environmental Integrity Project and the Southern Alliance for Clean Energy (Petitioners). Pursuant to sections 307(b) and 505(b)(2) of the CAA, a petition for judicial review of those parts of the Order that deny the petition may be filed in the United States Court of Appeals for the appropriate circuit within 60 days from the date this notice is published in the Federal Register.

ADDRESSES: Copies of the Order, the petition, and information relating thereto are on file at the following location: EPA Region 4; Air, Pesticides and Toxics Management Division; 61 Forsyth Street SW., Atlanta, Georgia 30303-8960. The Order is also available electronically at the following address: http://www.epa.gov/region07/air/title5/petitiondb/petitions/shawnee_response2011.pdf.

FOR FURTHER INFORMATION CONTACT: James Purvis, Air Permits Section, EPA Region 4, at (404) 562-9139 or purvis.james@epa.gov.

SUPPLEMENTARY INFORMATION: The CAA affords the EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or the grounds for the issues arose after this period.

Petitioners submitted a petition regarding SFP (received by the EPA on March 1, 2011), requesting that the EPA object to the CAA title V operating permit (#V-09-002 R1). Petitioners alleged that the permit was not consistent with the CAA for four primary reasons described in the petition. On August 31, 2012, the Administrator issued an Order denying the petition. In summary, the Petition was denied because the EPA interprets its regulations to limit the scope of petitions to object on permit revisions resulting from reopening for cause. The scope of petitions to object is limited to issues related to the parts of the permit for which the permitting authority has determined that cause to reopen exists. Because the Petitioners' objections apply to parts of the Shawnee Permit that are beyond the scope of the reopening for cause resulting in Permit Revision 1, the EPA is denying the Petition. The Order further explains the EPA's rationale for denying the petition.

Dated: September 17, 2012.
A. Stanley Meiburg,
Deputy Regional Administrator, Region 4.

[FR Doc. 2012-23690 Filed 9-25-12; 8:45 am]

BILLING CODE 6560-50-P